DEPARTMENT OF ENERGY

Federal Energy Regulatory Commission

Combined Notice of Filings #1

Take notice that the Commission received the following electric corporate filings:

Docket Numbers: EC14-34-000.

Applicants: Entergy Texas, Inc.

Description: Application for Section 203 transaction approval authorization of Entergy Texas, Inc.

Filed Date: 12/2/13.

Accession Number: 20131202-5147.

Comments Due: 5 p.m. ET 12/23/13.

Take notice that the Commission received the following exempt wholesale generator filings:

Docket Numbers: EG14-15-000.

Applicants: Ameren Energy Generating Company.

Description: Notice of Self-Certification of Exempt Wholesale Generator Status.

Filed Date: 11/29/13.

Accession Number: 20131129-5040.

Comments Due: 5 p.m. ET 12/20/13.

Take notice that the Commission received the following electric rate filings:

Docket Numbers: ER10-3135-002.

Applicants: Noble Great Plains Windpark, LLC.

Description: Notice of Non-Material Change in Status of Noble Great Plains Windpark, LLC.

Filed Date: 12/2/13.

Accession Number: 20131202-5137.

Comments Due: 5 p.m. ET 12/23/13.

Docket Numbers: ER12-1888-001; ER12-1890-001; ER12-1891-001; ER12-1892-001; ER12-1893-001; ER12-1894-001.

Applicants: Entergy Arkansas, Inc.

Description: Entergy Arkansas, Inc., et al Compliance Filing of revised bandwidth calculations.

Filed Date: 11/29/13.

Accession Number: 20131129-5039.

Comments Due: 5 p.m. ET 12/20/13.

Docket Numbers: ER14-503-000.

Applicants: PJM Interconnection, L.L.C.

Description: Revisions to the PJM OATT and RAA re Capacity Import Limit to be effective 1/31/2014.

Filed Date: 11/29/13.

Accession Number: 20131129-5027.

Comments Due: 5 p.m. ET 12/20/13.

Docket Numbers: ER14-504-000.

Applicants: PJM Interconnection, L.L.C.

Description: Revisions to the PJM OATT and RAA re Clearing Limited and ES DR Filing to be effective 1/31/2014.

Filed Date: 11/29/13.

Accession Number: 20131129-5028.

Comments Due: 5 p.m. ET 12/20/13.

Docket Numbers: ER14-505-000.

Applicants: Duke Energy Florida, Inc.

Description: SECI NITSA Amendment (2013) to be effective 1/1/2014 under ER14-505 Filing Type: 10.

Filed Date: 12/2/13.

Accession Number: 20131202-5032.

Comments Due: 5 p.m. ET 12/23/13.

Docket Numbers: ER14-506-000.

Applicants: Biofuels Washington LLC.

Description: Biofuels Washington LLC submits Petition for Order Accepting Initial Tariff, Waivers and Blanket Authority to be effective 12/2/2013.

Filed Date: 12/2/13.

Accession Number: 20131202-5075.

Comments Due: 5 p.m. ET 12/23/13.

Docket Numbers: ER14-507-000.

Applicants: Bangor Hydro Electric Company.

Description: Bangor Hydro Electric Company submits Notice of Succession to Bangor Hydro Electric Company Service Agreements to be effective1/1/2014.

Filed Date: 12/2/13.

Accession Number: 20131202-5094.

Comments Due: 5 p.m. ET 12/23/13.

Docket Numbers: ER14-508-000.

Applicants: Bangor Hydro Electric Company.

Description: Bangor Hydro Electric Company submits Filing to Effect Cancellation of Existing eTariff Database to be effective 1/1/2014.

Filed Date: 12/2/13.

Accession Number: 20131202-5110.

Comments Due: 5 p.m. ET 12/23/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 2, 2013.
Nathaniel J. Davis, Sr.,
Deputy Secretary.

[FR Doc. 2013-29200 Filed 12-6-13; 8:45 am]

BILLING CODE 6717-01-P